DEPARTMENT OF THE INTERIOR

National Park Service

[NPS-WASO-NAGPRA-NPS0036803; PPWOCRADN0-PCU00RP14.R50000]

Notice of Inventory Completion: University of Wisconsin Oshkosh, Oshkosh, WI

AGENCY: National Park Service, Interior.

ACTION: Notice.

SUMMARY: In accordance with the Native American Graves Protection and Repatriation Act (NAGPRA), the University of Wisconsin Oshkosh has completed an inventory of human remains and associated funerary objects and has determined that there is a cultural affiliation between the human remains and associated funerary objects and Indian Tribes or Native Hawaiian organizations in this notice. The human remains and associated funerary objects were removed from Winnebago, WI.

DATES: Repatriation of the human remains and associated funerary objects in this notice may occur on or after November 24, 2023.

ADDRESSES: Adrienne Frie, University of Wisconsin Oshkosh, 800 Algoma Boulevard, Oshkosh, WI 54901, telephone (920) 424-1365, email friea@uwosh.edu.

SUPPLEMENTARY INFORMATION: This notice is published as part of the National Park Service's administrative responsibilities under NAGPRA. The determinations in this notice are the sole responsibility of the University of Wisconsin Oshkosh. The National Park Service is not responsible for the determinations in this notice. Additional information on the determinations in this notice, including the results of consultation, can be found in the inventory or related records held by the University of Wisconsin Oshkosh.

Description

In 1975, human remains representing, at minimum, six individuals were removed from the Nile Roeder Site (47-WN-0197) in Winnebago, Winnebago County, WI, after being inadvertently found during construction. The principal investigator, Dr. Alaric Faulkner, performed a salvage excavation under the auspices of the University of Wisconsin Oshkosh. The 104 associated funerary objects are one bone flesher; one deer scapula hoe; one antler pressure flaker; one antler tool; one antler awl; one large mammal tooth fragment; one bear canine; one canid canine; one mussel shell; one fish otolith; one equid incisor; one lot of turtle shell fragments; one bear tooth fragment; one lot consisting of bird bones; one lot consisting of fish bones; two naiad shells; two lots consisting of naiad shells; two unidentified mammal bones; one lot consisting of unidentified small mammal bones; one unidentified large/medium mammal bone; one cord paddled and punctuated, grit-tempered ceramic rim sherd; three lots consisting of cord paddled, grit-tempered ceramic body sherds; one cord impressed, grit-tempered ceramic body sherd; one lot consisting of cord paddled and dentated, grit-tempered ceramic body sherds; three lots consisting of cord impressed, grit-tempered ceramic rim sherds; one lot consisting of cord impressed, grit-tempered ceramic rim sherds; one decorated, grit-tempered ceramic body sherd; one lot consisting of decorated, grit-tempered ceramic body sherds; one lot consisting of dentate, grit-tempered ceramic body sherds; two diagnostic, grit-tempered ceramic rim sherds; one incised, grit-tempered ceramic rim sherd; five lots consisting of undecorated, grit-tempered ceramic body sherds; one lot consisting of undecorated, grit-tempered ceramic rim sherds; two undecorated, grit-tempered ceramic rim sherds; one decorated, shell-tempered ceramic body sherd; one lot consisting of decorated, shell-tempered ceramic body sherds; one lot consisting of diagnostic, shell-tempered ceramic rim sherds; one impressed, shell-tempered ceramic rim sherd; one lot consisting of impressed and dentated, shell-tempered ceramic rim sherds; one lot consisting of incised, shell-tempered ceramic body sherds; one undecorated, shell-tempered ceramic rim; one lot consisting of cord impressed, shell-tempered ceramic body sherds; one lot consisting of impressed and trailed, shell-tempered ceramic rim sherds; three lots consisting of impressed, shell-tempered ceramic rim sherds; one impressed, trailed, and dentated shell-tempered ceramic rim sherd; one lot consisting of trailed and dentated, shell-tempered ceramic body sherds; one lot consisting of trailed and punctuated, shell-tempered ceramic rim sherds; four lots consisting of trailed, shell-tempered ceramic body sherds; six lots consisting of undecorated, shell-tempered ceramic body sherds; one trailed and punctuated, shell-tempered ceramic rim sherd; one lot consisting of trailed, shell-tempered ceramic rim sherds; four lots consisting of undecorated, shell-tempered ceramic rim sherds; one cord paddled, shell-tempered ceramic rim sherd; two corner notched, expanding stem projectile points; three fire cracked rocks; one hammerstone; one anvil stone; one biface projectile point; one biface tool fragment; six lots consisting of lithic debitage; one lithic drill; one lot consisting of lithic drills; one groundstone anvil; two lithic preforms; one side-notched projectile point; one lithic hafted knife; one shell-tempered clay disc fragment; one lot consisting of cuprous metal; and one soil matrix sample.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the University of Wisconsin Oshkosh has determined that:

• The human remains described in this notice represent the physical remains of six individuals of Native American ancestry.

• The 104 objects described in this notice are reasonably believed to have been placed with or near individual human remains at the time of death or later as part of the death rite or ceremony.

• There is a relationship of shared group identity that can be reasonably traced between the human remains and associated funerary objects described in this notice and the Assiniboine and Sioux Tribes of the Fort Peck Indian Reservation, Montana; Bad River Band of the Lake Superior Tribe of Chippewa Indians of the Bad River Reservation, Wisconsin; Bay Mills Indian Community, Michigan; Cheyenne River Sioux Tribe of the Cheyenne River Reservation, South Dakota; Chippewa Cree Indians of the Rocky Boy's Reservation, Montana; Citizen Potawatomi Nation, Oklahoma; Crow Creek Sioux Tribe of the Crow Creek Reservation, South Dakota; Flandreau Santee Sioux Tribe of South Dakota; Forest County Potawatomi Community, Wisconsin; Grand Traverse Band of Ottawa and Chippewa Indians, Michigan; Hannahville Indian Community, Michigan; Ho-Chunk Nation of Wisconsin; Iowa Tribe of Kansas and Nebraska; Iowa Tribe of Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Little Shell Tribe of Chippewa Indians of Montana; Lower Brule Sioux Tribe of the Lower Brule Reservation, South Dakota; Lower Sioux Indian Community in the State of Minnesota; Match-e-be-nash-she-wish Band of Pottawatomi Indians of Michigan; Menominee Indian Tribe of Wisconsin; Miami Tribe of Oklahoma; Minnesota Chippewa Tribe, Minnesota (Six component reservations: Bois Forte Band (Nett Lake); Fond du Lac Band; Grand Portage Band; Leech Lake Band; Mille Lacs Band; White Earth Band); Nottawaseppi Huron Band of the Potawatomi, Michigan; Oglala Sioux Tribe; Otoe-Missouria Tribe of Indians, Oklahoma; Pokagon Band of Potawatomi Indians, Michigan and Indiana; Prairie Band Potawatomi Nation; Prairie Island Indian Community in the State of Minnesota; Red Cliff Band of Lake Superior Chippewa Indians of Wisconsin; Red Lake Band of Chippewa Indians, Minnesota; Rosebud Sioux Tribe of the Rosebud Indian Reservation, South Dakota; Sac & Fox Nation of Missouri in Kansas and Nebraska; Sac & Fox Nation, Oklahoma; Sac & Fox Tribe of the Mississippi in Iowa; Saginaw Chippewa Indian Tribe of Michigan; Santee Sioux Nation, Nebraska; Sault Ste. Marie Tribe of Chippewa Indians, Michigan; Shakopee Mdewakanton Sioux Community of Minnesota; Sisseton-Wahpeton Oyate of the Lake Traverse Reservation, South Dakota; Sokaogon Chippewa Community, Wisconsin; Spirit Lake Tribe, North Dakota; St. Croix Chippewa Indians of Wisconsin; Standing Rock Sioux Tribe of North & South Dakota; Stockbridge Munsee Community, Wisconsin; Turtle Mountain Band of Chippewa Indians of North Dakota; Upper Sioux Community, Minnesota; Winnebago Tribe of Nebraska; and the Yankton Sioux Tribe of South Dakota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after November 24, 2023. If competing requests for repatriation are received, the University of Wisconsin Oshkosh must determine the most appropriate requestor prior to repatriation. Requests for joint repatriation of the human remains and associated funerary objects are considered a single request and not competing requests. The University of Wisconsin Oshkosh is responsible for sending a copy of this notice to the Indian Tribes identified in this notice.

Authority: Native American Graves Protection and Repatriation Act, 25 U.S.C. 3003, and the implementing regulations, 43 CFR 10.9, 10.10, and 10.14.

Dated: October 18, 2023.
Melanie O'Brien,
Manager, National NAGPRA Program.

[FR Doc. 2023-23546 Filed 10-24-23; 8:45 am]

BILLING CODE 4312-52-P